DEPARTMENT OF COMMERCE

National Oceanic and Atmospheric Administration

RIN 0648-XD919

Notice of Availability of a Draft Programmatic Environmental Assessment (PEA) of Issuance of Scientific Research and Enhancement Permits for Use of Unmanned Vehicle Systems on Protected Species

AGENCY: National Marine Fisheries Service (NMFS), National Oceanic and Atmospheric Administration (NOAA), Commerce.

ACTION: Notice; availability of draft environmental assessment.

SUMMARY: The National Marine Fisheries Service (NMFS) proposes to issue permits and permit amendments for take of protected species in the wild, pursuant to the Marine Mammal Protection Act of 1972, as amended; the Endangered Species Act of 1973; and the Fur Seal Act of 1966, as amended, as applicable. This may impact multiple species and taxa groups of protected species (marine mammals and sea turtles) by authorizing the use of unmanned vehicle systems (UVS), mainly small unmanned aircraft systems (UAS). The objectives of using UVS for research and enhancement may include determining the abundance, distribution, movement patterns, behavior, health and fitness, and stock structure of protected species found in U.S. territorial and international waters and coastal areas.

DATES: Written, telefaxed, or email comments must be received on or before August 7, 2015.

ADDRESSES: The draft PEA is available upon written request or by appointment in the Permits and Conservation Division, Office of Protected Resources, NMFS, 1315 East-West Highway, Room 13705, Silver Spring, MD 20910; phone (301) 427-8401; fax (301) 713-0376. Written comments must be postmarked by August 7, 2015, and should be mailed to: Chief, Permits and Conservation Division, Office of Protected Resources, National Marine Fisheries Service, 1315 East-West Highway, Room 13705, Silver Spring, MD 20910-3226. Comments may also be submitted by facsimile to (301) 713-0376, or by email to NMFS.Pr1Comments@noaa.gov. Please include “Draft UVS PEA Comments” in the subject line of the email.

FOR FURTHER INFORMATION CONTACT: Courtney Smith or Amy Sloan, (301) 427-8401.

SUPPLEMENTARY INFORMATION: NMFS is the federal agency responsible for management of sea turtles (in water), cetaceans, and pinnipeds (except walrus). NMFS' Office of Protected Resources administers a program that issues permits to various individuals and institutions to take these protected species in lands and waters under U.S. jurisdiction, and to U.S. citizens operating in international waters. Permits to take marine mammals are issued pursuant to the provisions of the MMPA, FSA (where applicable), and NMFS regulations governing the taking and importing of marine mammals (50 CFR part 216). For threatened and endangered species, permits are governed by the requirements of the ESA and the regulations governing the taking, importing, and exporting of endangered and threatened species (50 CFR parts 222-226). NMFS has prepared a draft PEA that evaluates the potential environmental impacts of scientific research or enhancement activities involving UVS, including UAS, on protected species. The purpose of the draft PEA is to assess impacts of UVS on protected species for issuance of future permits and permit amendments.

NMFS will consider all comments received during the comment period. NMFS requests that you include with your comments: (1) Your name and address; and (2) Any background documents to support your comments, as you feel necessary.

Dated: July 2, 2015.
Julia Harrison,
Chief, Permits and Conservation Division, Office of Protected Resources, National Marine Fisheries Service.

[FR Doc. 2015-16669 Filed 7-7-15; 8:45 am]

BILLING CODE 3510-22-P